OFFICE OF THE UNITED STATES TRADE REPRESENTATIVE

Notice of Conforming Amendments to Reinstated Exclusions: China's Acts, Policies and Practices Related to Technology Transfer, Intellectual Property, and Innovation

AGENCY: Office of the United States Trade Representative (USTR).

ACTION: Notice.

SUMMARY: Effective July 1, 2024, the U.S. International Trade Commission (USITC) implemented certain changes to statistical reporting categories in the Harmonized Tariff Schedule of the United States (HTSUS). As a result of these changes, USTR is making conforming amendments to two extended exclusions associated with the Section 301 investigation of China Acts, Policies and Practices Related to Technology Transfer, Intellectual Property, and Innovation.

DATES: The conforming amendments announced in the Annex to this notice are applicable as of July 1, 2024. Customs and Border Protection (CBP) will issue instructions on entry guidance and implementation.

FOR FURTHER INFORMATION CONTACT: For general questions about this notice, contact Senior Associate General Counsel Philip Butler or Assistant General Counsel Rachel Hasandras at (202) 395-5725. For specific questions on customs classification or implementation of the product exclusions identified in the Annex to this notice, contact traderemedy@cbp.dhs.gov.

SUPPLEMENTARY INFORMATION:

A. Background

Effective July 1, 2024, the USITC implemented certain changes to ten-digit statistical reporting categories of the HTSUS in accordance with its responsibility under section 484(f) of the Tariff Act of 1930, 19 U.S.C. 1484(f). Two of the extended exclusions in the Section 301 investigation of China's Acts, Policies and Practices Related to Technology Transfer, Intellectual Property, and Innovation, as set out at 89 FR 46948 (May 30, 2024), are affected by the amended statistical reporting categories.

B. Conforming Amendments to Reinstated Exclusion Extensions

To maintain the pre-existing product coverage of the China 301 actions, two conforming amendments to the corresponding note provision in the HTSUS are required. In particular, the Annex to this notice makes conforming amendments to U.S. notes 20(vvv)(iv)(10) and 20(vvv)(iv)(11) to subchapter III of chapter 99 of the HTSUS, as set out in the Annex at 89 FR 46948 (May 30, 2024).

Annex

Effective with respect to goods entered for consumption, or withdrawn from the warehouse for consumption, on or after 12:01 a.m. eastern standard time on July 1, 2024, note 20(vvv)(iv)(10) to subchapter III of chapter 99 of the Harmonized Tariff Schedule of the United States (HTSUS) is modified by inserting “described in statistical reporting number 3926.90.9989 effective July 1, 2024” after “July 1, 2020”; and note 20(vvv)(iv)(11) to subchapter III of chapter 99 of the HTSUS is modified by inserting “described in statistical reporting number 3926.90.9989 effective July 1, 2024” after “July 1, 2020”.

Juan Millan,
Acting General Counsel, Office of the United States Trade Representative.

[FR Doc. 2024-17360 Filed 8-5-24; 8:45 am]

BILLING CODE 3390-F4-P